POSTAL REGULATORY COMMISSION

[Docket Nos. MC2015-68 and CP2015-99; Order No. 2744]

New Postal Product

AGENCY: Postal Regulatory Commission.

ACTION: Notice.

SUMMARY: The Commission is noticing a recent Postal Service filing concerning a revised model agreement for the International Merchandise Return Service Agreements with Foreign Postal Operators product. This notice informs the public of the filing, invites public comment, and takes other administrative steps.

DATES: Comments are due: October 15, 2015.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Notice of Commission Action

III. Request for Supplemental Information

IV. Ordering Paragraphs

I. Introduction

On August 4, 2015, the Commission conditionally approved the proposed International Merchandise Return Service Agreements with Foreign Postal Operators (IMRS-FPO) product.¹ To ensure that the IMRS-FPO product covers its attributable costs, the Commission directed the Postal Service to amend the model agreement to include language that: “(1) automatically adjusts the agreement's prices if [they fall] below the range most recently approved by the Commission; or (2) automatically terminates the agreement if the agreement's prices fall below the range most recently approved by the Commission.” Order No. 2639 at 7.

¹ Order Conditionally Approving Addition of Competitive International Merchandise Return Service Agreements with Foreign Postal Operators (IMRS-FPO) to the Competitive Product List, August 4, 2015, at 7 (Order No. 2639).

On October 1, 2015, the Postal Service filed a revised model agreement for the proposed IMRS-FPO product.² A redacted copy of the revised model agreement appears as Attachment 1 to the Response. The Postal Service states that changes were made to Article 9, Article 23, and Annex 1. Response at 1. As a result of these changes, the Postal Service claims that IMRS-FPO agreements will now “automatically terminate” should the rates in the agreement fall outside the IMRS-FPO rate range most recently approved by the Commission. Id. at 1-2. The Postal Service asserts that the revisions to the model agreement are consistent with Order No. 2639. Id. at 1.

² United States Postal Service Response to Order No. 2639 Concerning Revised Model Agreement for Competitive International Merchandise Return Service Agreements with Foreign Postal Operators (IMRS-FPO), October 1, 2015 (Response).

II. Notice of Commission Action

In Order No. 2639, the Commission stated that once the Postal Service filed a revised model agreement it would “notice that filing for comment.” Order No. 2639 at 8. Accordingly, the Commission invites comments on whether the Postal Service's revised model agreement is consistent with the Commission's directive. Interested persons, including the Public Representative, may submit comments on the information in the Postal Service's Response no later than October 15, 2015. James F. Callow will continue to serve as Public Representative in these proceedings.

III. Request for Supplemental Information

Article 9 of the revised model agreement states that, in the event that the prices in the agreement no longer fall within the range most recently approved by the Commission, the agreement “shall expire sixty (60) days after the effective date of the new rate range. . . .” Response, Attachment 1 at 3. The Commission requests that the Postal Service explain why IMRS-FPO agreements cannot terminate sooner than sixty days after the effective date of a new rate range. The Postal Service's response is due no later than October 13, 2015.

IV. Ordering Paragraphs

It is ordered:

1. Comments on the information in the Postal Service's Response are due no later than October 15, 2015.

2. The Postal Service's response to the request for supplemental information is due no later than October 13, 2015.

3. James F. Callow will continue to serve as an officer of the Commission (Public Representative) to represent the interests of the general public in these proceedings.

4. The Secretary shall arrange for publication of this order in the Federal Register.

By the Commission.
Ruth Ann Abrams,
Acting Secretary.

[FR Doc. 2015-25915 Filed 10-9-15; 8:45 am]

BILLING CODE 7710-FW-P